DEPARTMENT OF COMMERCE

National Oceanic and Atmospheric Administration

Agency Information Collection Activities; Submission to the Office of Management and Budget (OMB) for Review and Approval; Comment Request; North Pacific Observer Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 12, 2021 during a 60-day comment period. This notice allows for an additional 30 days for public comments.

Agency: National Oceanic and Atmospheric Administration (NOAA), Commerce.

Title: North Pacific Observer Program.

OMB Control Number: 0648-0318.

Form Number(s): None.

Type of Request: Regular submission (extension of a current information collection).

Number of Respondents: 875.

Average Hours per Response: Observer Notification: 2 minutes; Industry Request for Assistance in Improving Observer Data Quality Issues: 30 minutes; Pre-cruise meeting notification: 5 minutes; Catcher/processor request to be placed in Partial Observer Coverage: 30 minutes; Request to be placed in the Full Observer Coverage Category: 5 minutes; Request to be placed in or removed from the EM selection pool: 5 minutes; Observer Declare and Deploy System (ODDS) Log a fishing trip: 15 minutes; Deck Safety Plan—Initial Year: 12 hours; Deck Safety Plan—Annual Renewal: 1 hour; Deck Sorting Safety Meeting: 15 minutes; Vessel Monitoring Plan: 48 hours; Closing EM trips in ODDS: 5 minutes; Submit EM Data to NMFS: 1 hour; Observer Provider Permit Application: 60 hours; Candidate College Transcripts: 8 hours; Observer Training Registration: 1 hour; Observer Briefing Registration: 7 minutes; Projected Observer Assignments: 7 minutes; Physical Examination Verification: 5 minutes; Observer Deployment/Logistics Report: 7 minutes; Observer Debriefing Registration: 30 minutes; Certificates of Insurance: 12 minutes; Observer Provider Contracts: 30 minutes; Other Reports: 2 hours; Update to Provider Information: 5 minutes; Observer Provider Invoices: 30 minutes.

Total Annual Burden Hours: 16,030 hours.

Needs and Uses: The National Marine Fisheries Service (NMFS), Alaska Regional Office, is requesting renewal of a currently approved information collection that contains requirements for the North Pacific Observer Program (Observer Program). A slight revision is requested to change the title of the collection from “Alaska Observer Program” to “North Pacific Observer Program.”

Section 313 of the Magnuson-Stevens Act (16 U.S.C. 1862) authorizes the North Pacific Fishery Management Council (Council), in consultation with NMFS, to prepare a fishery research plan for the purpose of stationing observers and electronic monitoring (EM) systems to collect data necessary for the conservation, management, and scientific understanding of the commercial groundfish and Pacific halibut fisheries of the Bering Sea and Aleutian Islands (BSAI) and Gulf of Alaska (GOA) management areas. The Observer Program is implemented by regulations at subpart E of 50 CFR part 679, which authorize the deployment of observers and EM to collect information necessary for the conservation and management of the BSAI and GOA groundfish and halibut fisheries. Under the Observer Program, observers and EM systems collect fishery-dependent information used to estimate total catch and interactions with protected species. Managers use this data to manage groundfish and prohibited species catch within established limits and to document and reduce fishery interactions with protected species. Scientists use this data to assess fish stocks, provide data for fisheries and ecosystem research and fishing fleet behavior, assess marine mammal interactions with fishing gear, and characterize fishing impacts on habitat.

All vessels and processors that participate in federally managed or parallel groundfish and halibut fisheries off Alaska (except catcher vessels delivering unsorted codends to a mothership) are subject to Observer Program requirements and assigned to one of two categories: (1) The full observer coverage category, where vessels and processors obtain observer coverage by contracting directly with observer providers; or (2) the partial coverage category, where NMFS, in consultation with the Council determines when and where observer coverage is needed. Some vessels and processors may be in full coverage for part of the year and partial coverage at other times of the year depending on the observer coverage requirements for specific fisheries. Funds for deploying observers on vessels in the partial coverage category are provided through a system of fees based on the gross ex-vessel value of retained groundfish and halibut. This observer fee is assessed on all landings by vessels that are not otherwise in full coverage. The observer fee is approved under OMB Control Number 0648-0711.

Information in this collection is submitted by observer provider companies and owners and operators of vessels and processors subject to Observer Program requirements. Information submitted by owners and operators includes information on owner identification, vessels, observer coverage category, deck safety, the EM system, fishing trips, and fishing operations. Information submitted by observer provider companies includes information on ownership and operations; observers and observer candidates; observer deployment; insurance coverage; contracts with observers, vessels, and processors; costs for observer services; and other information including possible observer harassment, prohibited actions, safety concerns, observer illness or injury preventing the observer from completing duties, and any information, allegation, or reports regarding observer conflict of interest or breach of the standards of behavior. Observers, observer provider companies, and industry may submit information on improving observer data quality and resolving observer sampling issues.

More information on the Observer Program is provided on the NMFS Alaska Region website at https://www.fisheries.noaa.gov/alaska/fisheries-observers/north-pacific-observer-program.

Affected Public: Individuals or households; Business or other for-profit organizations.

Frequency: On Occasion; Weekly; Annually.

Respondent's Obligation: Voluntary; Required to Obtain or Retain Benefits; Mandatory.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0318.

Sheleen Dumas,
Department PRA Clearance Officer, Office of the Chief Information Officer, Commerce Department.

[FR Doc. 2022-04354 Filed 3-1-22; 8:45 am]

BILLING CODE 3510-22-P